POSTAL RATE COMMISSION

Facility Tours

AGENCY: Postal Rate Commission.

ACTION: Notice of commission visit.

SUMMARY: Postal Rate Commissioners and staff members will tour printing and distribution facilities located in the vicinity of Martinsburg, West Virginia on May 20 and 21, 2004. The purpose is to familiarize attendees with various postal-related operations, including those related to parcel handling.

DATES: May 20, 2004 (afternoon): Quad/Graphics Parcel Direct presentation/facility tour. May 21, 2004 (morning): 1. Quad/Graphics commercial printing plant tour. 2. Norm Thompson Outfitters presentation/facility tour.

FOR FURTHER INFORMATION CONTACT: Stephen L. Sharfman, General Counsel, 202-789-6818.

Steven W. Williams,
Secretary.

[FR Doc. 04-11347 Filed 5-18-04; 8:45 am]

BILLING CODE 7710-FW-M